ENVIRONMENTAL PROTECTION AGENCY

40 CFR Part 300

[EPA-HQ-OLEM-2025-1247; FRL-12905-02-OLEM]

Deletion From the National Priorities List

AGENCY: Environmental Protection Agency (EPA).

ACTION: Final rule.

SUMMARY: The Environmental Protection Agency (EPA) announces the deletion of one site, Corozal Well, from the Superfund National Priorities List (NPL). The NPL, created under the Comprehensive Environmental Response, Compensation, and Liability Act (CERCLA) of 1980, as amended, is an appendix of the National Oil and Hazardous Substances Pollution Contingency Plan (NCP). In accordance with 40 CFR 300.425(e), sites may be deleted from the NPL where no further response is appropriate. The EPA and the Commonwealth of Puerto Rico, through the Puerto Rico Department of Natural and Environmental Resources (PRDNER), have determined that all appropriate response actions under CERCLA have been completed and no further response is appropriate. However, this deletion does not preclude future actions under Superfund.

DATES: The document is effective March 4, 2026.

ADDRESSES:

Docket: EPA has established a docket for this action under the Docket ID No. included in table 1 in the SUPPLEMENTARY INFORMATION section of this document. All documents in the docket are listed on the https://www.regulations.gov website. The Final Close-Out Report (FCOR, for a full site deletion) or the Partial Deletion Justification (PDJ, for a partial site deletion) is the primary document which summarizes site information to support the deletion. It is typically written for a broad, non-technical audience and this document is included in the deletion docket for each of the sites in this rulemaking. Although listed in the index, some information is not publicly available, i.e., Confidential Business Information (CBI) or other information whose disclosure is restricted by statute. Certain other material, such as copyrighted material, is not placed on the internet and will be publicly available only in hard copy form. Docket materials are available through https://www.regulations.gov or at the corresponding Regional Records Centers. Locations, addresses, and phone numbers-of the Regional Records Center follows.

• Region 2 (NJ, NY, PR, VI), U.S. EPA, 290 Broadway, New York, NY 10007-1866; telephone number: (212) 637-4308.

• EPA Headquarters Docket Center Reading Room (deletion dockets for all States), William Jefferson Clinton (WJC) West Building, Room 3334, 1301 Constitution Avenue NW, Washington, DC 20004; telephone number: (202) 566-1744.

EPA staff listed below in the FOR FURTHER INFORMATION CONTACT section may assist the public in answering inquiries about deleted sites, accessing deletion support documentation, and determining whether there are additional physical deletion dockets available.

FOR FURTHER INFORMATION CONTACT:

• Grace Stern and Robert Keating, U.S. EPA Region 2 (NJ, NY, PR, VI), email address: stern.grace@epa.gov, telephone number: (212) 637-4341; email address: keating.robert@epa.gov, telephone number: (212) 637-4325.

• Ashley Miller, Matt Spencer, and Jennifer Edwards, U.S. EPA Headquarters, email address: miller.ashley@epa.gov, telephone number: (202) 566-1084; email address: spencer.matthew@epa.gov, telephone number: (202) 566-1851; email address: edwards.jennifer@epa.gov, telephone number: (202) 566-1051.

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466 (November 1, 1995). The sites to be deleted are listed in table 1, including docket information containing reference documents with the rationale and data principally relied upon by the EPA to determine that the Superfund response is complete. The NCP permits activities to occur at a deleted site, or that media or parcel of a partially deleted site, including operation and maintenance of the remedy, monitoring, and five-year reviews. These activities for the site are entered in table 1 in this SUPPLEMENTARY INFORMATION section, if applicable, under Footnote such that; 1= site has continued operation and maintenance of the remedy, 2= site receives continued monitoring, and 3= site five-year reviews are conducted. As described in 40 CFR 300.425(e)(3) of the NCP, a site or portion of a site deleted from the NPL remains eligible for Fund-financed remedial action if future conditions warrant such actions.

Table 1
Site name | City/county, state | Type | Docket No. | Footnote
Corozal Well | Corozal, PR | Full | EPA-HQ-OLEM-2025-1247
1 = Site has continued operation and maintenance of the remedy.
2 = Site receives continued monitoring.
3 = Site five-year reviews are conducted.

Information concerning the site to be deleted from the NPL, and the proposed rule for the deletion of the site, are included in table 2.

Table 2
Site name | Date, proposed rule | FR citation | Public comment | Responsiveness summary | Full site deletion (full) or media/parcels/ description for partial deletion
Corozal Well | 09/11/2025 | 90 FR 43988 | Yes | Yes | Full.

For the site proposed for deletion, the closing date for comments in the proposed rule was October 14, 2025. The EPA received six submissions for the Corozal Well site, each with multiple comments. The EPA prepared a Responsiveness Summary to address public comment for the Corozal Well site full deletion. The EPA placed the public submissions with comments and Responsiveness Summary for the Corozal Well site in the docket specified in table 1, on https://www.regulations.gov, and in the appropriate Regional Records Center listed in the ADDRESSES section.

Commenters for the Corozal Well site expressed concerns that the site proposed for deletion may still contain contamination. Groundwater sampling data and additional statistical analysis indicate that site contaminants of concern have all been below their remediation goals. In addition, maximum contaminant levels at all site wells are consistently decreasing or on stable trends. Accordingly, sampling establishes that the site does not contain contamination exceeding the maximum contaminant levels. All appropriate response actions under CERCLA have been completed. The remedy implemented at the site has achieved all remedial action objectives, the cleanup levels identified in the decision documents, and is consistent with agency policy and guidance. The EPA clarified it has determined that the implemented actions at the Corozal Well site are protective of human health and the environment. EPA has achieved cleanup levels and remedial action objectives for groundwater, and the remedy allows for unrestricted use of the groundwater. Groundwater sampling data and additional statistical analysis indicate that site contaminants of concern have all been below their remediation goals and maximum contaminant levels at all site wells with consistently decreasing or stable trends.

Other commenters expressed concern about groundwater contamination and potential source areas recontaminating the groundwater. EPA conducted source area investigations by first conducting a broad screening of soil gas around the site. The data collected in the remedial investigation did not indicate the presence of a contamination source in the soil that would continue to impact groundwater. The data quality program complied with throughout the remedial action was sufficiently rigorous to enable EPA and PRDNER to determine that remedial actions were completed as designed.

Commenters also expressed concern about the lack of water quality data for the Santana Well prior to 2010 and wanted to know who would be responsible for regulating the well into the future if the site is deleted. Agencies in Puerto Rico will be responsible for any continued monitoring and maintenance of the well. PRDNER regulates installation of wells and issues well franchises, and the Puerto Rico Department of Health (PRDOH) regulates the operation of a water system. The Santana Well System has been regulated by the PRDOH since 2007 before the site was included on the NPL to ensure that water distributed to the public met drinking water standards; that will continue to occur after the site is deleted from the NPL. Public comments were carefully considered in the EPA's final decision to delete the Corozal Well site from the NPL. The EPA is proceeding with the full deletion action as originally proposed. The EPA concluded the deletion criteria for the site were met. EPA's decision and supporting documentation is provided in the specified docket.

The EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Mark Barolo,
Office Director, Office of Superfund and Emergency Management.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In appendix B to part 300, table 1 is amended by removing the entry “PR”, “Corozal Well”, “Corozal”.

[FR Doc. 2026-04320 Filed 3-3-26; 8:45 am]

BILLING CODE 6560-50-P